DEPARTMENT OF HEALTH AND HUMAN SERVICES

Centers for Disease Control and Prevention

Disease, Disability, and Injury Prevention and Control Special Emphasis Panel (SEP): The Great Lakes Human Health Effects Research Program, Program Announcement Number 04023; Correction

Correction: This notice was published in the Federal Register on May 19, 2004, Volume 69, Number 97, page 28894. The telephone number for the conference call has been changed.

Telephone: The conference call number is 888-791-2132, password Trooper.

Contact Person for more Information: J. Felix Rogers, Ph.D., M.P.H., CDC, National Center for Environmental Health/Agency for Toxic Substance Disease Registry, Office of Science, 1825 Century Boulevard, Atlanta, GA 30345, (404) 498-0222.

The Director, Management Analysis and Services Office, has been delegated the authority to sign Federal Register notices pertaining to announcements of meetings and other committee management activities, for both CDC and the Agency for Toxic Substances and Disease Registry.

Dated: May 24, 2004.
Joseph E. Salter,
Acting Director, Management Analysis and Services Office, Centers for Disease Control and Prevention.

[FR Doc. 04-12228 Filed 5-28-04; 8:45 am]

BILLING CODE 4163-18-P